ENVIRONMENTAL PROTECTION AGENCY

40 CFR Part 52

[EPA-R07-OAR-2018-0261; FRL-9983-77—Region 7]

Approval of Missouri Air Quality Implementation Plans; Infrastructure SIP Requirements for the 2012 Annual Fine Particulate Matter (PM2.5) National Ambient Air Quality Standard Interstate Transport

AGENCY: Environmental Protection Agency (EPA).

ACTION: Final rule.

SUMMARY: The Environmental Protection Agency (EPA) is finalizing its approval of section 110(a)(2)(D)(i)(I) in a State Implementation Plan (SIP) submission from the State of Missouri for the 2012 Annual Fine Particulate Matter (PM2.5) National Ambient Air Quality Standard (NAAQS). Section 110(a)(2)(D)(i)(I) requires the State to prohibit any source or other type of emissions activity within the State from emitting any air pollutant in amounts which will contribute significantly to nonattainment (prong 1), or interfere with maintenance (prong 2) in any other State with respect to the NAAQs.

DATES: This final rule is effective on October 31, 2018.

ADDRESSES: The EPA has established a docket for this action under Docket ID No EPA-R07-OAR-2018-0261. All documents in the docket are listed on the https://www.regulations.gov website. Although listed in the index, some information is not publicly available, i.e., CBI or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: Tracey Casburn, Environmental Protection Agency, Air Planning and Development Branch, 11201 Renner Boulevard, Lenexa, Kansas 66219 at (913) 551-7016, or by email at casburn.tracey@epa.gov.

SUPPLEMENTARY INFORMATION: Throughout this document “we,” “us,” and “our” refer to the EPA. This section provides additional information by addressing the following:

I. Background Information

II. Have the Requirements for approval of a SIP submittal been met?

III. The EPA's response to comments

IV. What Action is EPA taking?

V. Statutory and Executive Order Reviews

I. Background Information

States are required to have a SIP that provides for the implementation, maintenance, and enforcement of the NAAQS. Whenever EPA promulgates a new or revised NAAQS, States are required to make a SIP submission to establish that they have, or are adding, the provisions necessary to address various requirements to address the new or revised NAAQS. These SIPs are commonly referred to as “infrastructure” SIPs. The infrastructure requirements are designed to ensure that the structural components of each State's air quality management program are adequate to meet the State's responsibilities under the CAA. In this action EPA is approving the prong 1 and prong 2 interstate transportation obligations of the State's 2012 PM2.5 NAAQS infrastructure SIP submittal. On June 5, 2018, the EPA published a notice of proposed rulemaking (NPRM) in the Federal Register proposing to approve the prong 1 and prong 2 elements of the State of Missouri's 2012 PM2.5 NAAQS infrastructure SIP submittal. See 83 FR 25979. The NPRM, and technical support document (TSD) for the action, included: a summary of existing modeling data; a summary of monitoring data from areas downwind of Missouri; and a summary of annual emissions of oxides of nitrogen (NOX) and sulfur dioxide (SO2), both of which are precursors of PM2.5. This information showed that local control in Missouri is not necessary to address contribution, with respect to the 2012 PM2.5 NAAQS, to nonattainment in, or interfere with maintenance of the NAAQS any other State. As the EPA's rationale for approving the SIP submission was provided in detail in the NPRM and the TSD for the action, and both documents are included in the docket identified in the ADDRESSES section of this document, the rationale will not be restated in detail in this document.

II. Have the requirements for approval of the SIP submittal been met?

The State's submission met the public notice requirements for SIP submissions in accordance with 40 CFR 51.102. The State held a public comment period from July 27, 2015, to September 3, 2015. The State received no comments during the public comment period. A public hearing was held on August 27, 2015. The submission satisfied the completeness criteria of 40 CFR part 51, appendix V.

III. The EPA's Response to Comments

The public comment period for the NPRM closed on July 5, 2018. The EPA received three sets of comments prior to the close of the comment period; all three sets of comments were not directly related to the action and therefore not considered by the EPA to be adverse to the action being taken. As the EPA only responds to adverse comments, there are no responses required for this final action. The comments can be found in the docket to this action at EPA-R07-OAR-2018-0261. No changes were made to the proposal in this final action after consideration of the comments received. All comments on the proposed action are available in the docket identified in the ADDRESSES section of this document.

IV. What action is EPA taking?

As described above, the EPA is approving the prong 1 and prong 2 interstate transportation obligations of the State's 2012 PM2.5 NAAQS infrastructure SIP submittal.

V. Statutory and Executive Order Reviews

Under the CAA, the Administrator is required to approve a SIP submission that complies with the provisions of the Act and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Particulate matter, Reporting and recordkeeping requirements, Sulfur dioxides.

Dated: September 25, 2018.
Edward H. Chu,
Acting Regional Administrator, Region 7.

For the reasons stated in the preamble, EPA amends 40 CFR part 52 as set forth below:

PART 52—APPROVAL AND PROMULGATION OF IMPLEMENTATION PLANS

1. The authority citation for part 52 continues to read as follows:

Authority: 42 U.S.C. 7401 et seq.

Subpart AA-Missouri

2. In § 52.1320, the table in paragraph (e) is amended by adding the entry “(75)” in numerical order to read as follows:

§ 52.1320 Identification of plan.

* * * * *

(e)* * *

EPA-Approved Missouri Nonregulatory SIP Provisions
Name of nonregulatory SIP provision | Applicable geographic or nonattainment area | State submittal date | EPA approval date | Explanation
* * * * * * *
(75) Section 110(a)(2)(D)(i)(I)—significant contribution to nonattainment (prong 1), and interfering with maintenance of the NAAQs (prong 2) (Interstate Transport) Infrastructure Requirements for the 2012 Annual Fine Particulate Matter (PM2.5) NAAQS | Statewide | 10/14/2015 | 10/1/2018, [Insert Federal Register citation] | This action approves the following CAA elements: 110(a)(1) and 110(a)(2)(D)(i)(I)—prongs 1 and 2 [EPA-R07-OAR-2018-0261; FRL-9983-77—Region 7.]

[FR Doc. 2018-21286 Filed 9-28-18; 8:45 am]

BILLING CODE 6560-50-P